DEPARTMENT OF JUSTICE

Notice of Lodging of Proposed Consent Decree Under the Comprehensive Environmental Response, Compensation, and Liability Act

On December 10, 2024, the Department of Justice lodged a proposed Consent Decree with the United States District Court for the District of New Jersey in United States v. Arnet Realty Company, L.L.C., Old Bridge Minerals, Inc., and HB Warehousing, LLC, Inc., (“Defendants”) Civil Action No. 3:24-cv-11009 (D.N.J.).

The United States, on behalf of the Environmental Protection Agency (“EPA”), filed a Complaint against the Defendants under sections 106 and 107 of the Comprehensive Environmental Response, Compensation, and Liability Act (“CERCLA”), 42 U.S.C. 9606 and 9607. In the Complaint, the United States seeks (1) reimbursement of costs incurred and to be incurred by EPA and the Department of Justice for response actions at the CPS/Madison Superfund Site (“Site”) in Old Bridge Township, New Jersey, together with accrued interest, and (2) performance by the Defendants of response actions at the Site consistent with the National Contingency Plan, 40 CFR part 300. The proposed Consent Decree requires the Defendants to perform certain aspects of the Remedial Design and Remedial Action (“RD/RA”) for Operable Unit 1 and the RD/RA for Operable Unit 3 of the Site, which are estimated to cost approximately $14 million, and to pay EPA's future costs associated with oversight of that work. Under the proposed Consent Decree, the United States agrees not to sue the Defendants under sections 106 and 107 of CERCLA, 42 U.S.C. 9606 and 9607, for the work that Defendants have agreed to perform.

The publication of this notice opens a period for public comment on the Consent Decree. Comments should be addressed to the Assistant Attorney General, Environment and Natural Resources Division, and should refer to United States v. Arnet Realty Company, L.L.C., et al., D.J. Ref. No. 90-11-3-1525/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon email request to pubcomment-ees.enrd@usdoj.gov.

Eric D. Albert,
Assistant Section Chief, Environmental Enforcement Section, Environment and Natural Resources Division.

[FR Doc. 2024-29476 Filed 12-13-24; 8:45 am]

BILLING CODE 4410-15-P